ENVIRONMENTAL PROTECTION AGENCY

[FRL-9722-8]

National Environmental Justice Advisory Council; Notification of Public Teleconference Meeting and Public Comment

AGENCY: Environmental Protection Agency (EPA).

ACTION: Notice of public teleconference meeting and public comment.

SUMMARY: Pursuant to the Federal Advisory Committee Act (FACA), Public Law 92-463, the U.S. Environmental Protection Agency (EPA) hereby provides notice that the National Environmental Justice Advisory Council (NEJAC) will host a public teleconference meeting on Friday, September 21, 2012, from 1 p.m. to 3 p.m. Eastern Time. The primary topic of discussion will be proposed recommendations about how the Agency should develop processes and policy for addressing tribal and indigenous peoples environmental justice issues and concerns. There will be a public comment period from 2:30 p.m. to 3 p.m. Eastern Time,. during which members of the public are encouraged to provide comments relevant to the topic of the meeting. Specifically, comments should respond to:

1. What activities and mechanisms should EPA conduct and develop to work collaboratively with indigenous community-based/grassroots organizations to identify and address environmental justice concerns?

2. What organizational, regulatory, or policy hurdles exist that impede, complicate, or discourage tribal governments and indigenous organizations from effectively working together to address environmental and public health concerns.

3. What are the recommended means and mechanisms for EPA to coordinate and collaborate with other federal agencies to effectively provide environmental justice for indigenous people?

For additional information about registering to attend the meeting or to provide public comment, please see the “Registration” and SUPPLEMENTARY INFORMATION sections below. Due to a limited number of telephone lines, attendance will be on a first-come, first-served basis. Pre-registration is required. Registration for the teleconference meeting closes at 11 a.m. Eastern Time on Monday, September 17, 2012. The deadline to sign up for public comment, or to submit written public comments, is also Monday, September 17, 2012.

DATES: The NEJAC teleconference meeting on Friday, September 21, 2012, will begin promptly at 1 p.m. Eastern Time.

Registration: To register by email, send an email to NEJACTeleconSept2012@AlwaysPursuingExcellence.com with “Register for the NEJAC September 2012 Teleconference” in the subject line. Please provide your name, organization, city and state, email address, and telephone number for follow-up. To register by phone or fax, send a fax (please print) or leave a voice message with your name, organization, city and state, email address, and telephone number at 877-773-1489. Please specify which meeting you are registering to attend (e.g., NEJAC September 2012 Teleconference). Please also state whether you would like to be put on the list to provide public comment, and whether you are submitting written comments before the Monday, September 17, 2012, deadline. Non-English speaking attendees wishing to arrange for a foreign language interpreter may also make appropriate arrangements using the email address or telephone/fax number.

FOR FURTHER INFORMATION CONTACT: Questions or correspondence concerning the teleconference meeting should be directed to Mr. Aaron Bell, U.S. Environmental Protection Agency, by mail at 1200 Pennsylvania Avenue NW. (MC2201A), Washington, DC 20460; by telephone at 202-564-1044; via email at Bell.Aaron@epa.gov; or by fax at 202-564-1624. Additional information about the NEJAC and upcoming meetings is available on the following Web site: http://www.epa.gov/environmentaljustice/nejac.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

A. Public Comment: Members of the public who wish to attend the Friday, September 21, 2012, public teleconference or provide public comment must pre-register by 11 a.m. Eastern Time on Monday, September 17, 2012. Individuals or groups making remarks during the public comment period will be limited to five minutes. To accommodate the large number of people who want to address the NEJAC, only one representative of a particular community, organization, or group will be allowed to speak. Written comments also can be submitted for the record. The suggested format for individuals providing public comments is as follows: name of speaker; name of organization/community; city and state; and email address; brief description of the concern, and what you want the NEJAC to advise EPA to do. Written comments received by 11 a.m. Eastern Time on Monday, September 17, 2012, will be included in the materials distributed to the members of the NEJAC prior to the teleconference. Written comments received after that time will be provided to the NEJAC as time allows. All written comments should be sent to EPA's support contractor, APEX Direct, Inc., via email or fax as listed in the FOR FURTHER INFORMATION CONTACT section above.

B. Information about Services for Individuals with Disabilities: For information about access or services for individuals with disabilities, please contact Ms. Estela Rosas, EPA Contractor, APEX Direct, Inc., at 877-773-1489 or via email at NEJACTeleconSept2012@AlwaysPursuingExcellence.com. To request special accommodations for a disability, please contact Ms. Rosas at least seven working days prior to the meeting, to give EPA sufficient time to process your request. All requests should be sent to the address, email, or phone/fax number listed in the “Registration” section above.

Dated: August 22, 2012.
Victoria Robinson,
Designated Federal Officer, National Environmental Justice Advisory Council.

[FR Doc. 2012-21343 Filed 8-28-12; 8:45 am]

BILLING CODE 6560-50-P